DEPARTMENT OF JUSTICE

Notice of Lodging of Proposed Consent Decree under the Resource Conservation and Recovery Act

On July 27, 2022, the Department of Justice and the Oklahoma Department of Environmental Quality lodged a proposed Consent Decree with the United States District Court for the Western District of Oklahoma in the lawsuit entitled United States of America and Oklahoma Department of Environmental Quality v. January Environmental Services, Inc., et al., Civil Action No. 5:20-cv-1205. The Complaint, which was docketed on December 1, 2020, alleges that the defendants, January Environmental Services, Inc., January Transport, Inc., and the president of both companies, Cris January, are civilly liable for multiple violations of the Resource Conservation and Recovery Act (RCRA) and associated regulations at the defendants' used oil transportation and processing facility in Oklahoma City, Oklahoma. The violations were discovered in a series of inspections by the Oklahoma Department of Environmental Quality (ODEQ) and the United States Environmental Protection Agency (EPA).

Under the proposed Consent Decree, the companies and Cris January will pay $1,900,000 in civil penalties. The penalty payments will be split evenly between the United States and ODEQ. The Consent Decree also requires the defendants to perform corrective measures to bring the facility into compliance with RCRA and applicable regulations and to ensure compliance going forward. These measures include complying with all the regulations applicable to used oil transporters and processors, using proper methods to test for the potential presence of hazardous waste in used oil, characterizing wastes mixed with used oil filters prior to disposal or processing to determine whether the waste is hazardous, properly disposing of hazardous waste, hiring an independent engineer to evaluate the facility's spill prevention and containment preparedness, preparing and updating required reports and plans, training employees, and submitting periodic compliance reports to ODEQ and EPA.

The publication of this notice opens a period for public comment on the proposed Consent Decree. Comments should be addressed to the Assistant Attorney General, Environment and Natural Resources Division, and should refer to United States of America and Oklahoma Department of Environmental Quality v. January Environmental Services, Inc., et al., Civil Action No. 5:20-cv-1205, D.J. Ref. No. 90-7-1-12085. All comments must be submitted no later than thirty (30) days after the publication date of this notice. Comments may be submitted by either email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $12.00 (25 cents per page reproduction cost) payable to the United States Treasury.

Thomas Carroll,
Assistant Section Chief, Environmental Enforcement Section, Environment and Natural Resources Division.

[FR Doc. 2022-16604 Filed 8-2-22; 8:45 am]

BILLING CODE 4410-15-P